DEPARTMENT OF COMMERCE

National Oceanic and Atmospheric Administration

[I.D. 081700E]

Marine Mammals; File No. 914-1470-01

AGENCY: National Marine Fisheries Service (NMFS), National Oceanic and Atmospheric Administration (NOAA), Commerce.

ACTION: Issuance of permit amendment.

SUMMARY: Notice is hereby given that the University of Southern Mississippi, Department of Biological Sciences, USM Box 5018, Hattiesburg, MS 39401 (Principal Investigator: Dr. Bobby L. Middlebrooks), has been issued an amendment to scientific research Permit No. 914-1470 to import elephant seal samples from Argentina.

ADDRESSES: The amendment and related documents are available for review upon written request or by appointment in the following office(s):

Permits and Documentation Division, Office of Protected Resources, NMFS, 1315 East-West Highway, Room 13705, Silver Spring, MD 20910 (301/713-2289); and

Regional Administrator, Southeast Region, NMFS, 9721 Executive Center Drive North, St. Petersburg, FL 33702-2432 (813/570-5312).

FOR FURTHER INFORMATION CONTACT: Ruth Johnson or Simona Roberts, 301/713-2289.

SUPPLEMENTARY INFORMATION: On July 11, 2000, notice was published in the Federal Register (65 FR 42676) that an amendment of Permit No. 914-1470, issued November 12, 1998 (63 FR 64066), had been requested by the above-named organization. The requested amendment has been granted under the authority of the Marine Mammal Protection Act of 1972, as amended (16 U.S.C. 1361 et seq.) and the Regulations Governing the Taking and Importing of Marine Mammals (50 CFR part 216).

Dated: September 12, 2000.
Ann D. Terbush,
Chief, Permits and Documentation Division, Office of Protected Resources, National Marine Fisheries Service.

[FR Doc. 00-23920 Filed 9-15-00; 8:45 am]

BILLING CODE 3510-22-S